DEPARTMENT OF TRANSPORTATION

Federal Aviation Administration

[Docket No. FAA-2005-20109]

Ameriflight, Inc.; Extension of Comment Period

AGENCY: Federal Aviation Administration (FAA), DOT.

ACTION: Notice; reopening of comment period.

SUMMARY: This action reopens the comment period for a proposed grant of exemption that was published on February 7, 2006. The purpose of that document was to improve the public's awareness of, and participation in the FAA's regulatory activities. This reopening is a result of a request from the Air Line Pilots Association, International (ALPA) to extend the comment period to the exemption.

DATES: Comments must be received on or before April 3, 2006.

ADDRESSES: You may send comments identified by Docket Number FAA-2005-20109 using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Katherine Perfetti, Air Transportation Division, Flight Standards Service, Room 831, 800 Independence Avenue, SW., Washington, DC 20591, telephone: (202) 267-3760, e-mail: katherine.perfetti@faa.gov.

SUPPLEMENTARY INFORMATION:

Comments Invited

The FAA invites interested persons to submit written comments, data, and views on the agency's analysis contained in the proposed grant of exemption. The most helpful comments reference a specific portion of the analysis, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the web address in the ADDRESSES section.

Privacy Act: Using the search function of our docket Web site, anyone can find and read the comments received into any of our dockets, including the name of the individual sending the comment (or signing the comment on behalf of an association, business, labor union, etc.).

You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Background

On February 7, 2006, the Federal Aviation Administration (FAA) issued Proposed Grant of Exemption; Ameriflight, Inc. (71 FR 6307, 02/07/2006). Comments to that document were to be received on or before March 9, 2006.

By letter dated March 6, 2006, ALPA requested that the FAA extend the comment period for this proposed exemption for a period of 30 days. The FAA concurs with ALPA's request for an extension of the comment period. The comment period, however, closed on March 9, 2006. Additionally, the FAA believes that a 30-day extension would be excessive, thus, it will reopen the comment period for 15 days.

Reopening of Comment Period

In accordance with § 11.47 of Title 14, Code of Federal Regulations, the FAA has reviewed the petition made by ALPA for an extension of the comment period to the subject proposed grant of exemption. ALPA has shown a substantive interest in the proposed exemption and good cause for the extension. The FAA also has determined that the reopening of the comment period is consistent with the public interest, and that good cause exists for taking this action.

Accordingly, the comment period for the proposed grant of exemption; Ameriflight, Inc.; Docket No. FAA-2005-20109 is reopened until April 3, 2006.

Issued in Washington, DC, on March 13, 2006.
Anthony F. Fazio,
Director, Office of Rulemaking.

[FR Doc. E6-3856 Filed 3-16-06; 8:45 am]

BILLING CODE 4910-13-P